DEPARTMENT OF HOUSING AND URBAN DEVELOPMENT

Office of Federal Housing Enterprise Oversight; Privacy Act of 1974, as Amended; Amendment of Systems of Records

AGENCY: Office of Federal Housing Enterprise Oversight, HUD.

ACTION: Notice of amendment to systems of records.

SUMMARY: In accordance with the Privacy Act of 1974, as amended, 5 U.S.C. 552a (Privacy Act), the Office of Federal Housing Enterprise Oversight (OFHEO) is issuing public notice of its intent to revise one existing system of records and delete one existing system of records. The systems are being revised or deleted as a result of reevaluation of the manner in which OFHEO maintains the records. OFHEO is combining these two systems of records into one expanded system, therefore, OFHEO-05, Senior Staff Biography System will be deleted, and the number OFHEO-05 reserved for future use. The revised system, OFHEO-03, Employee Identification Card System will be renamed the Staff Information and Identification System and will include information formerly maintained in OFHEO-05, Senior Staff Biography System. Revisions will incorporate administrative changes that have taken place since the last publication of OFHEO-03 at 63 FR 9007 on February 23, 1998.

The revised system of records will consist of information on employees and contractors in order to issue temporary identification cards; provide biographical information to the media and other groups which request information on OFHEO staff as speakers or panel participants; and provide a resource to allow management to identify employees and contractors by their photograph, status and organizational office.

DATES: Written comments must be received by or before July 28, 2008. If no public comments are received, the proposed new system of records will become effective on August 6, 2008.

ADDRESSES: You may submit comments, identified by “Staff Information and Identification System,” by any of the following methods:

• Federal e-Rulemaking Portal: http://www.regulations.gov. Follow the instructions for submitting comments.

• Agency Web Site: http://www.ofheo.gov. Follow the instructions for submitting comments on the OFHEO Web site.

• E-mail: RegComments@OFHEO.gov. Please include “Staff Information and Identification System” in the subject line of the message.

• Mail: The mailing address for comments is: Alfred M. Pollard, General Counsel, Attention: Comments “Staff Information and Identification System,” Office of Federal Housing Enterprise Oversight, 1700 G Street, NW., Washington, DC 20552.

• Hand Delivery/Courier: The address for hand delivery/courier is: Alfred M. Pollard, General Counsel, Attention: Comments “Staff Information and Identification System,” Office of Federal Housing Enterprise Oversight, 1700 G Street, NW., Washington, DC 20552. The package should be logged at the Guard Desk, First Floor, on business days between 9 a.m. and 3 p.m.

See SUPPLEMENTARY INFORMATION for additional information on submission and posting of comments.

FOR FURTHER INFORMATION CONTACT: Mark D. Laponsky, Deputy General Counsel, telephone (202) 414-3832 (not a toll-free number); Office of Federal Housing Enterprise Oversight, 1700 G Street, NW., Washington, DC 20552. The telephone number for the Telecommunications Device for the Deaf is (800) 877-8339 (TDD Only).

SUPPLEMENTARY INFORMATION: Instructions: OFHEO invites comments on the proposed revision to an existing system of records described in this notice. Comments should include the agency name and the reference “Staff Information and Identification System” as well as your name and other contact information in the body of your comment. OFHEO further requests that comments submitted in hard copy also be accompanied by the electronic version in Microsoft® Word or in portable document format (PDF) on 3.5″ disk or CD-ROM.

Posting and Public Availability of Comments: All comments received will be posted without change to http://www.regulations.gov as well as on the OFHEO Internet Web site at http://www.ofheo.gov and will include any personal information provided. In addition, copies of all comments received will be available for examination by the public on business days between the hours of 10 a.m. and 3 p.m., at the Office of Federal Housing Enterprise Oversight, 1700 G Street, NW., Washington, DC. To make an appointment to inspect comments, please call the Office of General Counsel at (202) 414-6924.

Introduction: This notice informs the public that OFHEO proposes to revise an existing system of records and delete an obsolete system of records. This notice satisfies the Privacy Act requirement that agencies publish notices in the Federal Register describing new or altered systems of records. The revised system of records is:

OFHEO-03, Staff Information and Identification System (formerly known as the Employee Identification Card System)

The deleted system of records is:

OFHEO-05, Senior Staff Biography System

As required by 5 U.S.C. 552a(r) of the Privacy Act, and pursuant to paragraph 4c of Appendix I to OMB Circular No. A-130, OFHEO is filing a report describing the amended systems of records covered by this notice to the Chair of the House Committee on Oversight and Government Reform, the Chair of the Senate Committee on Homeland Security and Governmental Affairs, and the Office of Management and Budget. The proposed alterations to an existing system of records, as described above, are set forth in its entirety below.

Dated: June 23, 2008.
James B. Lockhart III,
Director.

OFHEO-03

SYSTEM NAME:

Staff Information and Identification System.

SYSTEM LOCATION:

The Office of Management Planning, OFHEO, 1700 G Street, NW., Washington, DC 20552, and any alternate work site utilized by employees of the Office of Federal Housing Enterprise Oversight (OFHEO) or individuals assisting such employees.

CATEGORIES OF INDIVIDUALS COVERED BY THE SYSTEM:

OFHEO employees and contractor personnel.

CATEGORIES OF RECORDS IN THE SYSTEM:

Records may include the individual's name, photograph, temporary identification card issue and expiration date, status, organizational office, educational background, experience, professional accomplishment, and affiliations.

AUTHORITY FOR MAINTENANCE OF THE SYSTEM:

The Safety and Soundness Act (12 U.S.C. 4513(b)(9)).

PURPOSE(S):

Information in this system will be used by OFHEO to establish and maintain a repository of information on employees and contractors in order to issue temporary identification cards; to provide biographical information to the media and other groups which request information on OFHEO staff as speakers or panel participants; and to provide a resource to allow management to identify employees and contractors by their photograph, status and organizational office.

ROUTINE USES OF RECORDS MAINTAINED IN THE SYSTEM, INCLUDING CATEGORIES OF USERS AND THE PURPOSES OF SUCH USES:

In addition to the conditions of disclosure under 5 U.S.C.552a(b) and in addition to the general routine uses identified in the Prefatory Statement of General Routine Uses, 63 FR 9007 (February 23, 1998), it shall be a routine use to disclose information contained in this system for the purposes and to the users identified below:

1. To appropriate persons, consultants, contractors, entities or others in the event of a breach of data contained in the system, as necessary for the purposes of responding to and remedying a breach.

2. To first responders and others as necessary to provide emergency response or evacuation assistance to covered individuals.

3. To appropriate individuals in the news media, public affairs personnel, and groups which request OFHEO staff as speakers or panel participants.

4. To appropriate persons, consultants, and contractors to allow positive identification of employees.

DISCLOSURE TO CONSUMER REPORTING AGENCIES:

Disclosures may be made from this system pursuant to 5 U.S.C. 552a(b)(12) to consumer reporting agencies as defined in the Fair Credit Reporting Act (15 U.S.C. 1681a(f)) when OFHEO is trying to collect a claim of the Government under a law, except the Internal Revenue Code of 1986, in accordance with 31 U.S.C. 3711(e).

POLICIES AND PRACTICES FOR STORING, RETRIEVING, ACCESSING, RETAINING, AND DISPOSING OF RECORDS IN THE SYSTEM:

STORAGE:

Records will be stored in both electronic and paper format. Paper records are to be maintained in file folders or binders. Computer files are to be maintained on magnetic tape, CD, or other machine readable format.

RETRIEVABILITY:

Records will be retrieved by the individual's name, identification card issue date, status, or organizational office.

SAFEGUARDS:

Access is restricted to OFHEO employees and contractors who require the information in performing their official duties. Access to computerized records is limited, through use of access codes and entry logs to those whose official duties require access. Paper records are maintained in locked cabinets.

RETENTION AND DISPOSAL:

Records will be maintained and disposed of in accordance with the National Archives and Records Administration General Records Schedule 18, Item 19.

SYSTEM MANAGER(S) AND ADDRESS:

Chief Human Capital Officer, Office of Human Resources Management, OFHEO, 1700 G Street, NW., Washington, DC 20552.

Associate Director, Office of Management Planning, OFHEO, 1700 G Street, NW., Washington, DC 20552.

NOTIFICATION PROCEDURE:

An individual can determine if this system contains a record pertaining to him/her by sending a request in writing, signed, to Contact the Privacy Act Officer, Office of Federal Housing Enterprise Oversight, 1700 G Street, NW., Washington, DC 20552.

When requesting notification of or access to records covered by this Notice, an individual should provide his/her full name, date of birth, agency name, and work location. An individual requesting notification of records in person must provide identity documents sufficient to satisfy the custodian of the records that the requester is entitled to access, such as a government-issued photo ID. Individuals requesting notification via mail or telephone must furnish, at minimum, name, date of birth, social security number, and home address in order to establish identity.

RECORD ACCESS PROCEDURES:

The OFHEO regulation for providing access to records appears at 12 CFR part 1702. If additional information or assistance is required, contact the Privacy Act Officer, Office of Federal Housing Enterprise Oversight, 1700 G Street, NW., Washington, DC 20552.

CONTESTING RECORD PROCEDURES:

The procedures for contesting initial denials for access to or amendment of records appears at 12 CFR part 1702. If additional information or assistance is required, contact the Privacy Act Officer at OFHEO, 1700 G Street, NW., Washington, DC 20552.

RECORD SOURCE CATEGORIES:

The information is obtained from the individuals on whom the information is maintained, from the OFHEO Office of Human Resources Management staff, the Office of Management Planning staff, and from the Office of Budget & Financial Management.

EXEMPTIONS CLAIMED FOR THE SYSTEM:

None.

[FR Doc. E8-14693 Filed 6-26-08; 8:45 am]

BILLING CODE 4220-01-P